DEPARTMENT OF HEALTH AND HUMAN SERVICES

Administration for Community Living

2022 National Strategy To Support Family Caregivers Available for Public Comments

AGENCY: Department of Health and Human Services/Administration for Community Living.

ACTION: Notice of 60-day public comment period.

SUMMARY: In accordance with the requirements of the Recognize, Assist, Include, Support and Engage (RAISE) Family Caregivers Act of 2017, the Administration for Community Living (ACL) is making the 2022 National Strategy to Support Family Caregivers (the Strategy) available for public comment for a period of 60 days. Public comments received will be used to inform the ongoing work of the Family Caregiving Advisory Council and the Advisory Council to Support Grandparents Raising Grandchildren, as well as to inform future updates to the Strategy.

DATES: Submit comments on or before November 30, 2022.

Submission: The 2022 National Strategy to Support Family Caregivers is available at: https://acl.gov/CaregiverStrategy. Submit all comments via the online form available at: https://acl.gov/CaregiverStrategy/Comments.

FOR FURTHER INFORMATION CONTACT: Greg Link, Director, Office of Supportive and Caregiver Services, Administration for Community Living, via email at raise.mail@acl.hhs.gov or at (202) 795-7386.

SUPPLEMENTARY INFORMATION: The Strategy is intended to serve as a national roadmap for better recognizing and supporting family and kinship caregivers of all ages, backgrounds, and caregiving situations.

It includes nearly 350 actions the federal government will take to support family caregivers in the coming year and more than 150 actions that can be adopted at other levels of government and across the private sector to build a system to support family caregivers.

The strategy was developed jointly by the advisory councils established by the Recognize, Assist, Include, Support, and Engage (RAISE) Family Caregivers Act and the Supporting Grandparents Raising Grandchildren (SGRG) Act, with extensive input from family caregivers, the people they support and other stakeholders. ACL leads implementation of the RAISE and SGRG Acts and facilitates the work of the two advisory councils.

Each year, around 53 million people provide a broad range of assistance to support the health, quality of life and independence of a person close to them who needs assistance as they age or due to a disability or chronic health condition. Another 2.7 million grandparent caregivers—and an unknown number of other relative caregivers—open their arms and homes each year to millions of children who cannot remain with their parents. Millions of older adults and people with disabilities would not be able to live in their communities without this essential support—and replacing it with paid services would cost an estimated $470 billion each year.

While family caregiving is rewarding, it can be challenging, and when caregivers do not have the support they need, their health, wellbeing and quality of life often suffer. Their financial future can also be put at risk; lost income due to family caregiving is estimated at $522 billion each year. When the challenges become overwhelming and family caregivers no longer can provide support, the people they care for often are left with no choices except moving to nursing homes and other institutions or to foster care—the cost of which is typically borne by taxpayers.

The strategy represents the first time a broad cross-section of the federal government has collaborated with the private sector on a response to the longstanding national need for a comprehensive system of family caregiver support. It is the product of comprehensive analysis and input from 15 federal agencies and more than 150 organizations representing a range of stakeholders from across the nation. It builds upon the initial reports delivered to Congress in 2021 by the RAISE Family Caregiving Advisory Council and the SGRG Advisory Council.

For more information, see also the RAISE Family Caregiving Advisory Council web page: https://acl.gov/RAISE; the Initial RAISE Family Caregivers Act Report to Congress: https://acl.gov/RAISE/report; the Advisory Council to Support Grandparents Raising Grandchildren web page: https://acl.gov/SGRG; the Initial SGRG Act Report to Congress: https://acl.gov/SGRG/report.

Solicitation of Public Comments: ACL is requesting comments on (a) the most important topics/issues for the Advisory Councils to focus on moving forward; and (b) issues that were not covered by the initial strategy that should be addressed in future updates.

Dated: September 30, 2022.
Alison Barkoff,
Acting Administrator and Assistant Secretary for Aging.

[FR Doc. 2022-21697 Filed 10-5-22; 8:45 am]

BILLING CODE 4154-01-P